FEDERAL MARITIME COMMISSION

Ocean Transportation Intermediary License Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

America's Trans-Logistics Inc. (OFF & NVO), 3301 NW 87th Avenue, Doral, FL 33172. Officers: Jose R. Castillo Ospina, Secretary/Treasurer, (Qualifying Individual). Maria C. Ucros, President. Application Type: New OFF & NVO License.

Dakini International Logistics Inc. (OFF & NVO), 36707 212th Way SE., Auburn, WA 98092. Officers: Terri L. Danz, Vice President, (Qualifying Individual). Carylon E. Simpson-Cooper, President. Application Type: New OFF & NVO License.

Damco USA Inc. dba Damco Sea and Air dba Damco dba Damco Maritime dba DSL Star Express dba Maersk Logistics (OFF & NVO), 7 Giralda Farms, Madison, NJ 07940. Officers: Kurt C. Pruitt, Senior Vice President/COO, (Qualifying Individual). Jeremy Haycock, President/Director. Application Type: QI Change.

Dice Worldwide Logistics, LLC dba Dice Worldwide Logistics (OFF & NVO), 8140 N.W. 29th Street, Miami, FL 33122. Officers: Patrick R. Moebel, CEO, (Qualifying Individual). Bernard S. Tcharchefdjian, President. Application Type: New OFF & NVO License.

Freight Master Overseas, Inc. (OFF), 570 West 20th Street, Hialeah, FL 33010. Officers: Premchan Rampersad, President/Sales Director/Treasurer, (Qualifying Individual). Shaffina Rampersad, Vice President/Secretary. Application Type: Add NVO Service.

International Frontier Forwarders, Inc. (OFF & NVO), 17101 Kuykendahl Road, Suite 255, Houston, TX 77068. Officer: Jose G. Diaz, President/Secretary/Treasurer, (Qualifying Individual). Application Type: New OFF & NVO License.

JSK Logistics LLC dba JSK Lines (OFF & NVO), 4 Wernik Place, Metuchen, NJ 08840. Officers: Norbert G. Mendes, Chief Operating Officer, (Qualifying Individual). Jigar Choksi, Member. Application Type: New OFF & NVO License.

Miami Envios Express Inc. (NVO), 7468 S.W. 117th Avenue, Miami, FL 33183. Officers: Mauricio Perez, President, (Qualifying Individual). Freddy Acevedo, Secretary. Application Type: Add OFF Service.

Midas International Investments LLC dba Midas Express Shipping And Freight (OFF & NVO), 14300 Cherry Lane Ct., Suite 103, Laurel, MD 20707. Officers: Adepero A. Oreagba, Vice President/Chief Operating Officer, (Qualifying Individual). Nurudeen A. Oreagba, President. Application Type: QI Change.

RDD Freight International, (LA) Inc. (OFF), 8140 N.W. 29th Street, Miami, FL 33122. Officers: Patrick R. Moebel, CEO, (Qualifying Individual). Bernard S. Tcharchefdjian, President. Application Type: New OFF License.

Dated: April 23, 2010.
Karen V. Gregory,
Secretary.

[FR Doc. 2010-9854 Filed 4-27-10; 8:45 am]

BILLING CODE 6730-01-P